DEPARTMENT OF HEALTH AND HUMAN SERVICES

Centers for Disease Control and Prevention

Health Resources and Services Administration; CDC/HRSA Advisory Committee on HIV and STD Prevention and Treatment; Meeting

In accordance with section l0(a)(2) of the Federal Advisory Committee Act (Pub. L. 92-463), the Centers for Disease Control and Prevention (CDC) and the Health Resources and Services Administration (HRSA) announce the following committee meeting.

Name: CDC/HRSA Advisory Committee on HIV and STD Prevention and Treatment.

Times and Dates: 8 a.m.-5 p.m., May 17, 2006, 8 a.m.-12 p.m., May 18, 2006.

Place: Sheraton Midtown Atlanta Hotel at Colony Square, 188 14th Street NE., Atlanta, Georgia 30361, Phone 404-892-6000, Fax 404-872-9192

Status: Open to the public, limited only by the space available. The meeting room will accommodate approximately 100 people.

Purpose: This Committee is charged with advising the Secretary, the Director, CDC and the Administrator, HRSA, regarding activities related to prevention and control of HIV/AIDS and other STDs, the support of health care services to persons living with HIV/AIDS, and education of health professionals and the public about HIV/AIDS and other STDs.

Matters To Be Discussed: Agenda items include issues pertaining to (1) HPV vaccine (2) CARE Act Reauthorization (3) HIV Counseling and Testing in health care settings. Agenda items are subject to change as priorities dictate.

Contact Person for More Information: Paulette Ford-Knights, Public Health Analyst, National Center for HIV, STD, and TB Prevention, 1600 Clifton Road, NE., Mailstop E-07, Atlanta, Georgia 30333. Telephone (404) 639-8008, fax (404) 639-3125, e-mail pbf7@cdc.gov.

The Director, Management Analysis and Services Office, has been delegated the authority to sign Federal Register notices pertaining to announcements of meetings and other committee management activities, for both CDC and the Agency for Toxic Substances and Disease Registry.

Dated: March 27, 2006.
Alvin Hall,
Director, Management Analysis and Services Office , Centers for Disease Control and Prevention.

[FR Doc. 06-3163 Filed 3-31-06; 8:45 am]

BILLING CODE 4163-18-P